DEPARTMENT OF COMMERCE

National Oceanic and Atmospheric Administration

[I.D. 041702C]

New England Fishery Management Council; Public Meetings

AGENCY: National Marine Fisheries Service (NMFS), National Oceanic and Atmospheric Administration (NOAA), Commerce.

ACTION: Notice of public meeting.

SUMMARY: The New England Fishery Management Council (Council) is scheduling a public meeting of its Groundfish Oversight Committee in May, 2002. Recommendations from the committee will be brought to the full Council for formal consideration and action, if appropriate.

DATES: The meeting will held on Tuesday, May 7, 2002, at 9:30 a.m. and Wednesday, May 8, 2002, at 8:30 a.m.

ADDRESSES: The meeting will be held at the DoubleTree Hotel, 1230 Congress Street, Portland, ME 04102; telephone: (207) 774-5611.

Council address: New England Fishery Management Council, 50 Water Street, Newburyport, MA 01950.

FOR FURTHER INFORMATION CONTACT: Paul J. Howard, Executive Director, New England Fishery Management Council; (978) 465-0492.

SUPPLEMENTARY INFORMATION: This meeting will focus on commercial fishing for groundfish in the inshore and offshore Gulf of Maine areas. Measures for the inshore Gulf of Maine area will be discussed on Tuesday, May 7 and measures for the offshore Gulf of Maine area will be discussed on Wednesday, May 8. Proposed area boundaries can be obtained from the Council. Interested parties will be consulted to identify management measures that will achieve specific biological, economic, and social objectives identified by the Council. Such measures may include, but are not limited to, trip or possession limits, changes to the days-at-sea program, year-round or seasonal closed areas, or gear changes. Suggestions for management measures should consider all Magnuson-Stevens Act requirements.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: April 17, 2002.
Richard W. Surdi,
Acting Director, Office of Sustainable Fisheries, National Marine Fisheries Service.

[FR Doc. 02-9812 Filed 4-19-02; 8:45 am]

BILLING CODE 3510-22-S